DEPARTMENT OF DEFENSE

Office of the Secretary

Renewal of Department of Defense Federal Advisory Committees

AGENCY: DoD.

ACTION: Notice.

SUMMARY: Under the provisions of the Federal Advisory Committee Act of 1972, as amended (5 U.S.C. Appendix), the Department of Defense gives notice that the Defense Advisory Committee on Women in the Services, which is determined to be in the public interest, is hereby renewed on April 17, 2006. This committee provides necessary and valuable independent advice to the Secretary of Defense and other senior Defense officials in their respective areas of expertise.

It is a continuing DoD policy to make every effort to achieve a balanced membership on all DoD advisory committees. Each committee is evaluated in terms of the functional disciplines, levels of experience, professional diversity, public and private association, and similar characteristics required to ensure a high degree of balance is obtained.

FOR FURTHER INFORMATION CONTACT: Contact Frank Wilson, DoD Committee Management Officer, 703-601-2554.

Dated: April 20, 2006.
L.M. Bynum,
OSD Federal Register Liaison Officer, Department of Defense.

[FR Doc. 06-3979 Filed 4-26-06; 8:45 am]

BILLING CODE 5001-06-M